ENVIRONMENTAL PROTECTION AGENCY

[ER-FRL-8987-9]

Environmental Impact Statements; Notice of Availability

Responsible Agency: Office of Federal Activities, General Information (202) 564-1399 or http://www.epa.gov/compliance/nepa/.

Weekly receipt of Environmental Impact Statements

Filed 01/25/2010 through 01/29/2010

Pursuant to 40 CFR 1506.9.

Notice

In accordance with Section 309(a) of the Clean Air Act, EPA is required to make its comments on EISs issued by other Federal agencies public. Historically, EPA has met this mandate by publishing weekly notices of availability of EPA comments, which include a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100024, Third Draft Supplement, USFS, 00, Southwest Idaho Ecogroup Land and Resource Management Plan, Updated Information to Reanalyze the Effects of Current and Proposed Management on Rock Mountain Bighorn Sheep Viability in the Payette National Forest 2003 FEIS, Boise National Forest, Payette National Forest and Sawtooth National Forest, Forest Plan Revision, Implementation, Several Counties, ID; Malhaur County, OR and Box Elder County, UT, Comment Period Ends: 03/22/2010, Contact: Pattie Sourcek 208-634-0700.

EIS No. 20100025, Final EIS, USACE, NC, North Topsail Beach Shoreline Protection Project, Seeking Federal and State Permits to Allow Implementation of a Non-Federal Shoreline and Inlet Management Project, New River Inlet, Onslow County, NC, Wait Period Ends: 03/08/2010, Contact: Mickey Sugg 910-251-4811.

EIS No. 20100026, Final EIS, NOAA, 00, Amendment 31 to the Fishery Management Plan for Reef Fish Resources, Addresses Bycatch of Sea Turtles in the Bottom Longline Component of the Reef Fish Fishery, Gulf of Mexico, Wait Period Ends: 03/08/2010, Contact: Roy E. Crabtree 727-824-5701.

EIS No. 20100027, Draft EIS, USFS, CA, Big Grizzly Fuels Reduction and Forest Health Project, Proposes Vegetation Treatments, Eldorado National Forest, Georgetown Ranger District, Georgetown, CA, Comment Period Ends: 03/22/2010, Contact: Dana Walsh 530-333-5558.

EIS No. 20100028, Draft Supplement, USFS, WY, Bridger-Teton National Forest, Proposal to Determine What Terms and Conditions to Allow Development of Oil and Gas Leasing in the Wyoming Range, Sublette County, WY, Comment Period Ends: 03/22/2010, Contact: Melissa Blackwell 801-625-5777.

EIS No. 20100029, Draft EIS, BR, WA, Cle Elum Dam Fish Passage Facilities and Fish Reintroduction Project, To Restore Connectivity, Biodiversity, and Natural Production of Anadromous Salmonids, Kittitas County, WA, Comment Period Ends: 03/22/2010, Contact: Jennifer Beardsley 208-378-5035.

EIS No. 20100030, Draft EIS, WAPA, SD, Deer Creek Station Energy Facility Project, Proposed 300-megawatt (MW) Natural Gas-Fired Generation Facility, Brookings County, SD, Comment Period Ends: 03/22/2010, Contact: Matt Marsh 406-247-7385.

EIS No. 20100031, Draft EIS, NRC, WI, GENERIC—License Renewal of Nuclear Plants for Kewaunee Power Station, Supplement 40 to NUREG-1437, Kewaunee County, WI, Comment Period Ends: 04/23/2010, Contact: Vanice Perin 301-415-8143.

EIS No. 20100032, Final EIS, WAPA, CA, ADOPTION—Delta-Mendota Canal/California Aqueduct Intertie Project, Construction and Operation of a Pumping Plant and Pipeline Connection, San Luis Delta-Mendota Water Authority Project, Central Valley Project, Alameda and San Joaquin Counties, CA, Contact: Steve Tuggle 916-353-4549. The U.S. Department of Energy's Western Area Power Administrations (DOE/WAPA) has ADOPTED the U.S. Department of Interior, Bureau of Reclamations FEIS #20090401, filed on 11/19/2009. DOE/WAPA was a Cooperating Agency for the above project. Recirculation of the FEIS is not necessary under 40 CFR 1506.3(c).

Amended Notices

EIS No. 20100016, Draft EIS, USN, CA, Silver Strand Training Complex (SSTC) Project, Proposed Naval Training Activities, Cities of Coronado and Imperial Beach, San Diego County, CA, Comment Period Ends: 03/08/2010, Contact: Kent Randall 619-545-9339, Revision to FR Published 01/22/2010: Correction to Contact Phone Number.

EIS No. 20090435, Draft EIS, APHIS, 00, Glyphosate-Tolerant Alfalfa Events J101 and J163: Request for Nonregulated Status, Implementation, United States, Comment Period Ends: 03/03/2010, Contact: Cindy Eck 202-720-2600, Revision to FR Published 12/18/2009: Extending Comment Period From 02/16/2010 to 03/03/2010.

Dated: February 2, 2010.
Robert W. Hargrove,
Director, NEPA Compliance Division, Office of Federal Activities.

[FR Doc. 2010-2537 Filed 2-4-10; 8:45 am]

BILLING CODE 6560-50-P